DEPARTMENT OF COMMERCE

National Oceanic and Atmospheric Administration

Council Coordination Committee Meeting

AGENCY: National Marine Fisheries Service (NMFS), National Oceanic and Atmospheric Administration (NOAA), Commerce.

ACTION: Notice of a public meeting; information regarding the agenda.

SUMMARY: NMFS will host a meeting of the Council Coordination Committee (CCC), consisting of the Regional Fishery Management Council chairs, vice chairs, and executive directors on February 27-February 28, 2018. The intent of this meeting is to discuss issues of relevance to the Councils and NMFS, including issues related to the implementation of the Magnuson-Stevens Fishery Conservation and Management Reauthorization Act. Agenda items include discussions on budget allocations for FY2018 and budget planning for FY2019; an update on current joint science initiatives, including Ecosystem Based Fisheries Management; the FY2018 legislative outlook; updates on aquaculture initiatives, Council Member voting recusals, the NMFS National Standard 1 implementation, Marine Recreational Information Program updates; and other topics related to implementation of the Magnuson-Stevens Fishery Conservation and Management Reauthorization Act. All sessions are open to the public.

DATES: The meeting will begin at 8:30 a.m. on Tuesday, February 27, 2018, recess at 5 p.m. or when business is complete; and reconvene at 8:30 a.m. on Wednesday, February 28, 2018, and adjourn by 4:30 p.m. or when business is complete.

ADDRESSES: The meeting will be held at the Holiday Inn Capitol Hill, 550 C Street SW, Washington, DC 20024, telephone 202-479-4000, fax 202-288-4627.

FOR FURTHER INFORMATION CONTACT: Brian Fredieu: telephone 301-427-8505 or email at Brian.Fredieu@noaa.gov.

SUPPLEMENTARY INFORMATION: The Magnuson-Stevens Fishery Conservation and Management Reauthorization Act established the CCC by amending Section 302 (16 U.S.C. 1852) of the MSA. The committee consists of the chairs, vice chairs, and executive directors of each of the eight Regional Fishery Management Councils authorized by the MSA or other Council members or staff. Updates to this meeting and additional information will be posted on http://www.nmfs.noaa.gov/sfa/management/councils/ccc/ccc.htm when available.

Proposed Agenda

Tuesday, February 27, 2018

8:30 a.m.—Morning session begins

• Welcome/Introductions

• NMFS Update & FY17 Priorities

• Aquaculture Initiative Updates

• Legislative Outlook

• MSA Reauthorization & CCC Comments

• Regulatory Reform Update

• Management and Budget Update

• Council Member Conflict of Interest and Recusal working group update

• FOIA Guidance

5:15 p.m.—Adjourn for the day

Wednesday, February 28, 2018

9 a.m.—Morning Session Begins

• EBFM Regional Implementation

• Electronic Monitoring Policy Development

• MRIP Transition Implementation

• BSIA Guidance Update

• NS1 Technical Guidance Update

• Other Business

4:15 p.m.—Adjourn for the day

The order in which the agenda items are addressed may change. The CCC will meet as late as necessary to complete scheduled business.

Special Accommodations

This meeting is physically accessible to people with disabilities. Requests for sign language interpretation or other auxiliary aids should be directed to Brian Fredieu at 301-427-8505 at least five working days prior to the meeting.

Dated: January 22, 2018.
Samuel D. Rauch, III,
Deputy Assistant Administrator for Regulatory Programs, National Marine Fisheries Service.

[FR Doc. 2018-01389 Filed 1-25-18; 8:45 am]

BILLING CODE 3510-22-P